DEPARTMENT OF AGRICULTURE

Forest Service

[0596-AD16]

Final Directive for National Saw Program

AGENCY: Forest Service, USDA.

ACTION: Notice of final directive.

SUMMARY: The Forest Service is publishing a final directive revising Forest Service Manual (FSM) 2350 to establish training, evaluation, and certification requirements for the use of chain saws and crosscut saws on National Forest System (NFS) lands. In addition, the Agency is revising Forest Service Handbook (FSH) 6709.11, section 22.48 (Safety Handbook), to remove duplicate text. The final directive applies to the use of chain saws and crosscut saws by Forest Service and other governmental employees, volunteers, training consultants, and cooperators on NFS lands.

DATES: The final directive is effective July 19, 2016.

ADDRESSES: The record for this final directive is available for inspection and copying at the office of the Director, Recreation, Heritage, and Volunteer Resources Staff, USDA, Forest Service, 5th Floor, Sidney R. Yates Federal Building, 1400 Independence Avenue SW., Washington, DC, during regular business hours (8:30 a.m. to 4:00 p.m.) Monday through Friday, except holidays. Those wishing to inspect these documents are encouraged to call ahead at (202) 205-1227 to facilitate access to the building.

FOR FURTHER INFORMATION CONTACT: Jonathan Stephens, National Trails Program Manager, (202) 205-1701 or jstephens02@fs.fed.us. Individuals who use telecommunication devices for the deaf (TDD) may call the Federal Information Relay Service at (800) 877-8339 between 8:00 a.m. and 8:00 p.m., Monday through Friday.

SUPPLEMENTARY INFORMATION:

1. Background and Need for the Final Directive

Beginning in the 1970s, the Forest Service's nine regions developed regional policies related to sawyer training and saw use. Sawyers covered by those policies often maintained trails on national forests and grasslands, helped fight wildfires, and worked in wilderness where crosscut saws are required. Forest Service and other governmental employees, cooperators, training consultants, and volunteers who worked in more than one region had to comply with multiple regional policies, and certifications obtained in one region were not always honored in another.

A national saw directive is needed to standardize training, evaluation, certification, and safety procedures for sawyers operating on NFS lands. The final directive will allow the Forest Service to facilitate the safe use of chain saws and crosscut saws while optimizing the critical skills and cooperative opportunities for trail maintenance and other projects on NFS lands. The final directive will be codified in Forest Service Manual (FSM) 2358 and will supersede duplicative text in the Health and Safety Code Handbook, Forest Service Handbook (FSH) 6709.11, chapter 20, and all Forest Service Regional Supplements to that Handbook.

2. Overview of the Final Directive

The following provides an overview of the final directive for the Forest Service's National Saw Program.

Training, Evaluation, and Certification. Under the final directive, the Forest Service will allow the use of chain saws and crosscut saws on NFS lands by Agency and other governmental employees, volunteers, training consultants, and cooperators upon the successful completion of sawyer training and field evaluation, the prerequisites to obtain a National Sawyer Certification Card, and any other specified qualifications to perform assigned saw work safely, including current training on first aid and cardiopulmonary resuscitation (CPR). Sawyers will receive one or more of six skill level certifications upon successful completion of required sawyer training and a field proficiency evaluation. The issuance of a National Sawyer Certification Card documents the sawyer's skill level certification and qualifies the sawyer to work on NFS lands within the qualifications indicated on the card. A Crosscut Sawyer Trainee may occasionally use a crosscut saw, but for bucking only (bucking is sawing logs and limbs into shorter lengths) and only under the immediate supervision of a certified higher qualified sawyer.

Forest Service Cooperators. Forest Service agreements with cooperators (other than those working under interagency fire management cooperative agreements) will include a clause requiring cooperators' employees, participants, and volunteers who will use chain saws or crosscut saws on NFS lands under their agreement to be trained, evaluated, and certified in accordance with this final directive. The clause will also provide that cooperators will be responsible for providing the training, evaluation, and certification, unless the Forest Service and the cooperator determine it is not in the best interest of the partnership. In these circumstances, the Forest Service, upon request and based on availability of Agency funding and personnel, may assist with developing and conducting the training, evaluation, and certification. Cooperators may take Nationally Recognized Sawyer Training Courses (NRSTCs) offered by the Forest Service or may train, evaluate, and certify their volunteers, participants, and employees through NRSTCs offered by Forest Service-recommended cooperator sawyer evaluators and sawyer instructors. This clause will be included in new cooperator agreements involving the use of chain saws or crosscut saws upon publication of the final directive. The clause will be included in existing cooperator agreements involving the use of chain saws or crosscut saws when modifications to the agreements are necessary, e.g., for additional funding or extensions. Cooperators will not have to comply with the clause for 1 year following publication of the final directive to give them time to meet the new requirements.

Scope of Certification. Sawyers will be precluded from performing saw activities outside the limits of their certification or qualifications, except during formal evaluation proceedings or under the immediate supervision of a higher qualified sawyer.

No Guarantee of Certification. Completion of classroom, field proficiency, and evaluation requirements does not guarantee a certification.

Minimum Eligible Sawyer Age. Sawyers must comply with United States Department of Labor minimum age requirements. Those standards, as applied to sawyers performing trail maintenance, require that sawyers using chain saws be at least 18 years of age and that crosscut sawyers be at least 16 years of age.

National Sawyer Database. The Forest Service is developing a web-based database to track Forest Service sawyer certifications nationwide. The name of the sawyer, contact information, and certification level will be entered into the database and will be accessible by authorized Forest Service employees, training consultants, volunteers, and cooperators. The system will allow the Forest Service and cooperators to verify that employees, volunteers, training consultants, and cooperators intending to operate chain saws and crosscut saws on NFS lands have met the requirements of the final directive to achieve their specific sawyer certification skill level. The database will provide a centralized record of sawyers and their qualifications, thereby facilitating consistent and efficient management of the Forest Service's National Saw Program.

Information Collection Requirements. The Forest Service has developed two forms for evaluating sawyers, one for chain saw sawyers and one for crosscut saw sawyers. In accordance with 5 CFR 1320.3(h)(1), these forms do not entail an information collection. They merely require sawyers who are being evaluated to affirm that they have completed and will maintain first aid and CPR training, and to indicate whether they give the Forest Service permission to share their sawyer qualifications and add their email address to a mailing list shared with other Federal agencies and non-Federal organizations so that they can be contacted about saw project opportunities in their area. Furthermore, in accordance with 5 CFR 1320.3(h)(7), the evaluation forms do not entail an information collection to the extent they document examinations designed to test the aptitude, abilities, or knowledge of the persons tested and involve the collection of information for identification or classification in connection with those examinations. The National Sawyer Certification Card does not entail an information collection, as it is completed by the Forest Service without any additional information from the public beyond what is collected on the sawyer evaluation forms.

3. Response to Comments on the Proposed Directive

On June 17, 2015, the Forest Service published notice of a proposed directive in the Federal Register (80 FR 34610) establishing guidance for the Forest Service's National Saw Program (RIN 0596-AC82). Comments were solicited for 60 days, and the comment period ended on August 17, 2015. The Agency received 59 letters or emails commenting on the proposed directive from the following: Trail partner organizations (11); equestrian groups (5); motorized trail organizations (5); Youth Conservation Corps (5); environmental groups (2); State agency (1); and individuals (30). The Agency conducted outreach to tribal interests. The Agency did not receive any comments from tribal interests.

General Comments

Comment: Three respondents expressed opposition to establishment of a national Forest Service saw program.

Response: Beginning in the 1970s, the Forest Service's nine regions developed regional policies related to sawyer training and saw use. Sawyers covered by those policies often maintained trails on national forests and grasslands, helped fight wildfires, and worked in wilderness where crosscut saws are required. Forest Service and other governmental employees, cooperators, training consultants, and volunteers who worked in more than one region had to comply with multiple regional policies, and certifications obtained in one region were not always honored in another. A national saw directive is needed to standardize training, evaluation, certification, and safety procedures for sawyers operating on NFS lands. The final directive will allow the Forest Service to facilitate the safe use of chain saws and crosscut saws while optimizing the critical skills and cooperative opportunities for trail maintenance and other projects on NFS lands.

Comment: Coordination among Federal land managers was a concern for several commenters.

Response: The Forest Service is one of the few federal land managers to require training, evaluation, and certification of sawyers. Most commenters who addressed interagency coordination were concerned about forthcoming National Park Service policy on use of saws and how that policy and the proposed directive would affect maintenance of national trails traversing lands under the jurisdiction of the National Park Service and the Forest Service. Both Federal agencies are aware of this concern, and interagency coordination is ongoing. The Forest Service will continue working with other Federal land management agencies to maximize consistency in use of chain saws and crosscut saws on Federal lands.

FSM 2300, Chapter 2350—Trail, River, and Similar Recreation Opportunities

Comment: Several organizations have requested that this final directive be issued under FSM 6700, Safety and Health Program.

Response: In November 2008, then Forest Service Chief Abigail Kimball realigned several activities from the Office of Safety and Occupational Health (OSOH) to other program areas. Each of these activities involves program areas other than safety and occupational health. The realigned activities and associated program areas include:

• Explosives and Blasting Materials-Engineering

• Use of Chain Saws and Crosscut Saws-Recreation, Heritage, and Volunteer Resources

• Scientific Diving-Research and Development

• Tree Climbing-Forest Management

The final directive will be incorporated into FSM 2358. FSM 2358 will contain cross-references to FSM 6700, where appropriate. The National Saw Program Manager will work with Safety and Occupational Health staff as well as other Agency staff to administer the final directive effectively in the context of other Agency programs.

Section 2358.02—Objective

Comment: Some cooperators expressed concerned that the proposed directive did not place enough emphasis on supporting the development of volunteer sawyer instructors and sawyer evaluators.

Response: In the final directive, the Agency revised the objective section, FSM 2358.02, to support “the development of stand-alone cooperator and volunteer training and certification programs for sawyer instructors and sawyer evaluators.”

Section 2358.03—Policy

Comment: One respondent requested clarification regarding applicability of the proposed directive to Job Corps Center employees and students.

Response: All Job Corps Centers run by the Forest Service (known as Job Corps Civilian Conservation Centers) are subject to Forest Service directives, including the final directive. Other Job Corps Centers are considered cooperators with the Forest Service and will be required to follow this final directive when using chain saws or crosscut saws on NFS lands under an agreement with the Forest Service. Students at both Forest Service-run and non-Forest Service-run Job Corps Centers using chain saws or crosscut saws on NFS lands would be considered Public Lands Corps (PLC) participants per the PLC Act of 1993, 16 U.S.C. 1721 et seq., and would be required to follow this directive. The responsible official for implementing the final directive at Job Corps Centers is the Job Corps Center Director. The responsible official for implementing the final directive in a Forest Service administrative unit would be the forest or grassland supervisor for that unit.

Comment: Several cooperators expressed concern about how their existing agreements with the Forest Service and sawyer training programs would be affected by the proposed directive. Cooperators were also concerned about having six categories of certification and asked whether they would have to have these categories if they already had other certification standards in place.

Response: Forest Service agreements with cooperators (other than those working under interagency fire management cooperative agreements) will include a clause requiring cooperators' employees, participants, and volunteers who will use chain saws or crosscut saws on NFS lands under their agreement to be trained, evaluated, and certified in accordance with this final directive. The clause will also provide that cooperators will be responsible for providing the training, evaluation, and certification, unless the Forest Service and the cooperator determine it is not in the best interest of the partnership. In these circumstances, the Forest Service, upon request and based on availability of Agency funding and personnel, may assist with developing and conducting the training, evaluation, and certification. Cooperators may take NRSTCs offered by the Forest Service or may train, evaluate, and certify their volunteers, participants, and employees through NRSTCs offered by Forest Service-recommended cooperator sawyer evaluators and sawyer instructors. This clause will be included in new cooperator agreements involving the use of chain saws or crosscut saws upon publication of the final directive. The clause will be included in existing cooperator agreements involving the use of chain saws or crosscut saws when modifications to the agreements are necessary, e.g., for additional funding or extensions. Cooperators will not have to comply with the clause for 1 year following publication of the final directive to give them time to meet the new requirements.

The Forest Service will review cooperators' existing and new sawyer training, evaluation, and certification programs to determine if they comply with the final directive. The process for review is enumerated in the Forest Service Saw Operations Guide (FSSOG), which will be issued at the same time as the final directive and which will be available at http://www.fs.fed.us/about-agency/regulations-policies/saw-policy. Requests to review existing training, evaluation, and certification programs will receive priority over requests to review new programs.

Comment: Several respondents recommended that the Agency decrease the minimum age for crosscut sawyers from 16 years of age to 14 years of age.

Response: The Agency recognizes the opportunity to foster a new generation of trail stewards, and crosscut saw use is essential to trail maintenance. Sawyers must comply with United States Department of Labor minimum age requirements. Those standards, as applied to sawyers performing trail maintenance, require that sawyers using chain saws be at least 18 years of age and that crosscut sawyers be at least 16 years of age.

Section 2358.04—Responsibility

Comment: Several commenters requested that cooperators be considered federal contractors apparently so that they could be exempt from the requirements of the proposed directive.

Response: Like Forest Service and other governmental employees, cooperators, volunteers, and training consultants, Forest Service contractors are subject to applicable Federal Occupational Safety and Health Administration requirements governing the use of saws. However, Forest Service contractors are not subject to the national saw directive because the Agency does not believe it is necessary or appropriate to track their training and certification as sawyers given their role and responsibilities as Federal contractors. Forest Service cooperators and volunteers have different roles and responsibilities from Federal contractors and are not considered Federal contractors.

Section 2358.04b—National Saw Program Manager

Comment: Several commenters were concerned about whether the National Saw Program Manager's position would be retained by the Forest Service.

Response: The Forest Service is committed to supporting this position, which is critical to the success of National Saw Program. One of the National Saw Program Manager's most important initial responsibilities will be assisting Forest Service administrative units, volunteers, and cooperators with consistent and effective implementation of the final directive.

FSM 2358.04c—Technical Advisory Group (TAG)

Comment: Several organizations expressed interest in being a member of the TAG.

Response: The TAG consists of the National Saw Program Manager, Regional Saw Program Managers, a representative from the Forest Service Technology and Development Centers, and other Federal agency saw and safety-related subject matter experts. The purpose of the TAG is to develop, coordinate, and provide advice and guidance to the National Saw Program Manager in connection with training, skills, and safety for all aspects of chain saw and crosscut saw operations on NFS lands. Individuals and individual partner organizations may meet with the TAG to provide input on sawyer training, skills, and safety.

Section 2358.1—Exhibit 02, Sawyer Responsibilities and Limitations and Training, Knowledge, and Skill Requirements

Comment: Several respondents expressed concern about limiting sawyers to bucking only (sawing logs and limbs into shorter lengths). Some respondents believed that C Sawyers—Bucking Only should be able to certify other sawyers.

Response: C Sawyers—Bucking Only may conduct formal instruction within their skill level for A and B Sawyers. C Sawyers—Bucking Only may also conduct field proficiency evaluations within their skill level for A Sawyers and B Sawyers—Bucking Only. See FSM 2358.1, ex. 02, B Sawyers—Bucking Only, Responsibilities and Limitations.

Comment: Several respondents expressed concern about the need for two C Sawyer Evaluators to determine proficiency of C Sawyers—Bucking Only and identified an inconsistency in the number of C Sawyer Evaluators necessary for certification of C Sawyers—Bucking Only between FSM 2358.1, exhibit 02, and FSM 2358.1, exhibit 06.

Response: In the final directive, only one C Sawyer Evaluator is necessary for certification of C Sawyers—Bucking Only, and both FSM 2358.1, exhibit 02, and FSM 2358.3, exhibit 06, so provide.

Comment: Several commenters expressed concerned about eliminating diameter at breast height (DBH) limitations and the subjectivity involved in assessing the complexity of sawing tasks in sawyer evaluations.

Response: Based on input from experienced Forest Service sawyers, the Agency has determined that DBH restrictions are not an adequate way to judge how much risk sawyers will encounter. Moreover, the Agency does not agree that larger trees are more risky or complex. Many recent accidents involving sawyers striking others or being struck themselves have occurred with smaller-diameter trees. At this time, the Forest Service believes it has addressed the complexity of sawing tasks as precisely as possible and will rely on its most qualified staff to refine the many elements of complexity through implementation of the National Saw Program. The Agency is considering establishing indicators for levels of complexity, but field-testing of this approach is required to determine its efficacy. Definitions of terms associated with complexity of sawing tasks will be provided through FSSOG updates.

Comment: Some commenters were concerned that the reevaluation standards for sawyer instructors and sawyer evaluators were either ambiguous or too subjective.

Response: Reevaluation standards for sawyer instructors and sawyer evaluators are enumerated in FSM 2358.1, exhibit 02. The final directive includes additional requirements for sawyer instructors and sawyer evaluators in FSM 2358.21, paragraphs 3 and 4.

Section 2358.04l—Sawyer Evaluators

Comment: Many cooperators were concerned about access to the National Sawyer Database.

Response: The Forest Service recognizes that direct access to this database by cooperators is paramount to the success of the National Saw Program. Therefore, implementation of the database will be delayed until that access can be secured. The Forest Service is developing a web-based database to track Forest Service sawyer certifications nationwide. The database will provide a centralized record of sawyers and their qualifications, thereby facilitating consistent and efficient management of the National Saw Program. The name of the sawyer, contact information, and certification level will be entered into the database and will be accessible by authorized Forest Service and cooperator employees. The system will allow the Forest Service and cooperators to verify that employees, volunteers, training consultants, and cooperators intending to operate chain saws and crosscut saws on NFS lands have met the requirements of the final directive to achieve the requisite certification level.

Section 2358.05—Definitions

Comment: Several respondents were unsure of the difference between the terms “brush” and “tree.”

Response: The final directive includes definitions that iterate the difference between these terms.

Section 2358.1—Training, Knowledge, and Skill Requirements

Comment: Several respondents commented about training, including access to training for volunteers and the elimination of total estimated hours of training needed for each certification level in FSM 2358.1, exhibit 02.

Response: The Forest Service recognizes the benefit of volunteers and will provide training support to the extent feasible. One of the objectives of this final directive is to enable larger volunteer organizations and other partners to develop their own sawyer training, evaluation, and certification programs, which should enable more people to use chain saws and crosscut saws on NFS lands. Inclusion of the total estimated hours of training needed for each certification level is necessary to help participants understand the time commitment needed and provide consistency for program implementation.

Comment: A respondent suggested removing the requirement for first aid and CPR certification for crosscut sawyer trainees. Several respondents objected to the restriction to double bucking for crosscut sawyer trainees and requested that single bucking under the supervision of another qualified sawyer be allowed for crosscut sawyer trainees.

Response: Based upon further review, the Forest Service agrees that it makes sense to waive the requirement for first aid and CPR certification for crosscut sawyer trainees and has removed the requirement from FSM 2358.1, exhibit 02, in the final directive. In addition, the Forest Service agrees that single bucking under the supervision of another qualified sawyer should be allowed for crosscut sawyer trainees and has revised FSM 2358.1, exhibit 02, in the final directive accordingly.

Section 2358.2—Sawyer Training and Field Proficiency Reevaluation

Comment: Several commenters were concerned that a 3-year sawyer reevaluation cycle would not be followed by forests or regions.

Response: This national saw directive will supersede all previous regional saw policies. The 3-year reevaluation requirement will ensure that sawyers are evaluated consistently throughout the NFS. If a sawyer evaluator is concerned about a particular sawyer's performance, the sawyer evaluator can require a more frequent evaluation of that sawyer, per FSM 2358.21 in the final directive.

Comment: Some commenters were concerned that implementation of a national saw directive would adversely affect sawyer training at local levels and would increase saw incidents and injuries.

Response: Beginning in the 1970s, the Forest Service's nine regions developed regional policies related to sawyer training and saw use. Sawyers covered by those policies often maintained trails on national forests and grasslands, helped fight wildfires, and worked in wilderness where crosscut saws are required. Forest Service and other governmental employees, cooperators, training consultants, and volunteers who worked in more than one region had to comply with multiple regional policies, and certifications obtained in one region were not always honored in another. A national saw directive is needed to standardize training, evaluation, certification, and safety procedures for sawyers operating on NFS lands. The final directive will allow the Forest Service to facilitate the safe use of chain saws and crosscut saws while optimizing the critical skills and cooperative opportunities for trail maintenance and other projects on NFS lands.

Section 2358.3—Exhibits 03 and 04, Sawyer Training and Field Evaluation for Chain Saws and Crosscut Saws

Comment: Some commenters expressed concerns about the design of the sawyer training and field evaluation forms and confusion over how to use them.

Response: These forms will be used to document sawyer training and field evaluation and are designed to capture the sawyer's performance while undertaking any sawing task. If sawyers only intend to brush, limb, and buck, then only these sections of the form should be completed during the evaluation. The felling section should not be completed if the sawyer will not be felling.

Section 2358.3—Exhibit 05, National Sawyer Certification Card

Comment: Commenters were unclear regarding the notations that will be made on the National Sawyer Certification Card.

Response: This credential will be issued through the National Sawyer Database. The sawyer's name and address will be the only information that can be entered on the card. The type of sawyer and certification level will be selected from drop-down boxes or buttons. The card format is under development, but will be designed to fit in a wallet.

4. Regulatory Certifications

Environmental Impact

This final directive revises the administrative policies and procedures for using crosscut saws and chain saws on NFS lands. Agency regulations at 36 CFR 220.6(d)(2) exclude from documentation in an environmental assessment or impact statement “rules, regulations, or policies to establish Service-wide administrative procedures, program processes, or instructions.” The Agency has concluded that this final directive falls within this category of actions and that no extraordinary circumstances exist which would require preparation of an environmental assessment or environmental impact statement.

Regulatory Impact

Per Executive Order (E.O.) 12866, the Office of Management and Budget (OMB) has determined that the final directive is not significant. This final directive, which establishes the Forest Service's National Saw Program, will not have an annual effect of $100 million or more on the economy, nor will it adversely affect productivity, competition, jobs, the environment, public health and safety, or State or local governments. This final directive will not interfere with an action taken or planned by another agency, nor will it raise new legal or policy issues. The final directive also will not alter the budgetary impact of entitlement, grant, user fee, or loan programs or the rights and obligations of beneficiaries of those programs.

E.O. 13563 reaffirms the principles of E.O. 12866 while calling for improvements in the nation's regulatory system to promote predictability, to reduce uncertainty, and to use the best, most innovative, and least burdensome tools for achieving regulatory ends. The E.O. directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. The Agency has developed the final directive consistent with these requirements.

Regulatory Flexibility Act and E.O. 13272

The Agency has considered this final directive in light of the Regulatory Flexibility Act (5 U.S.C. 601 et seq.), and E.O. 13272 regarding consideration of small entities. The Agency certifies that the final directive will not have a significant economic effect on a substantial number of small entities under these authorities. The final directive will not impose record-keeping requirements on small entities; it will not affect their competitive position in relation to large entities; and it will not affect their cash flow, liquidity, or ability to remain in the market. The final directive focuses on NFS saw program activities and will impose no requirements on small or large entities.

Unfunded Mandates Reform Act

Pursuant to Title II of the Unfunded Mandates Reform Act of 1995 (2 U.S.C. 1531-1538), the Agency has assessed the effects of this final directive on State, local, and Tribal governments and the private sector. The final directive will not compel the expenditure of $100 million or more by any State, local, or Tribal government or anyone in the private sector. Therefore, a statement under section 202 of the act is not required.

No Takings Implications (E.O. 12630)

The Agency has analyzed the final directive in accordance with the principles and criteria contained in E.O. 12630. The Agency has determined that the final directive will not pose the risk of a taking of private property. A takings implication assessment is therefore not required.

Federalism (E.O. 13132)

The Agency has considered this final directive under the requirements of E.O. 13132 and has determined that the final directive conforms with the federalism principles set out in this E.O.; will not impose any compliance costs on the States; and will not have substantial direct effects on the States, the relationship between the Federal Government and the States, or the distribution of power and responsibilities among the various levels of government. Therefore, the Agency has determined that no further assessment of federalism implications is necessary.

Civil Justice Reform (E.O. 12988)

The final directive has been reviewed under E.O. 12988, entitled “Civil Justice Reform.” Upon adoption of the final directive, (1) all State and local laws and regulations that conflict with the final directive or that impede its full implementation will be preempted; (2) no retroactive effect will be given to the final directive; and (3) administrative proceedings will not be required before parties may file suit in court to challenge its provisions.

Consultation and Coordination With Indian Tribal Governments (E.O. 13175)

In accordance with E.O. 13175, entitled “Consultation and Coordination with Indian Tribal Governments”; USDA Departmental Regulation 1350-02 (Tribal Consultation, Coordination and Collaboration); and Forest Service Handbook 1509.13, Chapter 10 (Consultation with Indian Tribes and Alaska Native Corporations), the Agency conducted outreach to Tribes to determine their interest in consulting on the proposed directive during the public comment period. The opportunity for tribal consultation was available for 90 additional days after the close of the public comment period, giving Tribes 150 days to review the proposed directive and request consultation. No interest in consultation was expressed by Tribes or tribal organizations during the outreach period. Opportunities to engage Tribes regarding implementation of the final directive will be explored, including information-sharing via Web sites and notices to major tribal organizations with an interest in the use of chain saws and crosscut saws on NFS lands. Tribes interested in requesting information about the final directive may contact Jonathan Stephens by email at jstephens02@fs.fed.us or by telephone at (202) 205-1701. In addition, Forest Service regional offices have information on the final directive to guide information-sharing with Tribes in their regions.

Paperwork Reduction Act

The final directive does not contain any recordkeeping or reporting requirements or other information collection requirements as defined in 5 CFR part 1320 that are not already required by law or not already approved for use. Accordingly, the review provisions of the Paperwork Reduction Act of 1995 (44 U.S.C. 3501 et seq.) and its implementing regulations at 5 CFR part 1320 do not apply.

Effects on the Energy Supply (E.O. 13211)

The Agency has reviewed the final directive under E.O. 13211 and has determined that the final directive is not a significant energy action as defined in the E.O. Therefore, a statement of energy effects is not required.

Dated: July 6, 2016.
Thomas L. Tidwell,
Chief, U.S. Forest Service.

[FR Doc. 2016-16977 Filed 7-18-16; 8:45 am]

BILLING CODE 3411-15-P